DEPARTMENT OF THE INTERIOR

Bureau of Land Management

[17X LLAK980600.L1820000.XX0000.LXSIARAC0000]

Notice of Public Meeting, BLM Alaska Resource Advisory Council

AGENCY: Bureau of Land Management, Interior.

ACTION: Notice of public meeting.

SUMMARY: In accordance with the Federal Land Policy and Management Act of 1976 as amended and the Federal Advisory Committee Act of 1972, the Bureau of Land Management (BLM) Alaska Resource Advisory Council (RAC) will meet as indicated below.

DATES: The RAC will hold a public meeting on Thursday, November 16, 2017, from 8 a.m. until 5 p.m. and Friday, November 17, 2017, from 8 a.m. until noon. A public comment period will be held during Thursday's meeting from 4 to 5 p.m.

ADDRESSES: The meeting will take place in the Executive Dining Room at the Federal Building, 222 W. 7th Ave., Anchorage, Alaska. The agenda will be posted online by Oct. 17, 2017, at https://www.blm.gov/site-page/get-involved-resource-advisory-council/near-you/alaska/rac.

FOR FURTHER INFORMATION CONTACT: Dave Doucet, RAC Coordinator, BLM Alaska State Office, 222 W. 7th Avenue #13, Anchorage, AK 99513; ddoucet@blm.gov; 907-271-4405. People who use a telecommunications device for the deaf (TDD) may call the Federal Relay Service (FRS) at 1-800-877-8339 to contact the above individual during normal business hours. The FRS is available 24 hours a day, seven days a week, to leave a message or question with the above individual. You will receive a reply during normal business hours.

SUPPLEMENTARY INFORMATION: The 15-member BLM Alaska RAC was chartered to provide advice to the BLM and the Secretary of the Interior on a variety of planning and management issues associated with public land management in Alaska. All RAC meetings are open to the public. If you have written comments to distribute to the RAC, please do so prior to the start of the meeting.

Agenda items for the meeting include updates on BLM Alaska planning efforts such as the Bering Sea-Western Interior and Central Yukon Resource Management Plans, the Road to Ambler Mining District Environmental Impact Statement, the Donlin Gold Mine Right of Way, and the Alaska Stand Alone Pipeline/Alaska LNG project. In addition, the BLM will present updates on the status of Public Land Orders withdrawing land from selection or development, activities in the National Petroleum Reserve in Alaska, including the Greater Mooses Tooth Unit 2 project, and the upcoming Oil and Gas Lease Sale. The Placer Mining Subcommittee will present reports on the 2017 placer mining field season and preparations for the 2018 field season, and the Alaska Native Claims Settlement Act Subcommittee will discuss access and subsistence issues. The BLM will also encourage the RAC to provide the BLM with input on recreation, access and transportation issues including the proposed Trans-Alaska Trail along the Trans-Alaska Pipeline System corridor; the Transportation Management Plans for the Steese National Conservation Area and the White Mountains National Recreation Area; the possibilities of partnerships with the State and other agencies for access, recreation, and transportation issues; and the possibility of adjusting recreation site fees. The State of Alaska will also make a presentation on the Arctic Strategic Transportation and Resources Project. The BLM Alaska will post the meeting agenda by Oct. 17, 2017, to the BLM Alaska Web site at https://www.blm.gov/get-involved/resource-advisory-council/near-you/alaska/rac. During the public comment period, depending upon the number of people wishing to comment, time for individual oral comments may be limited. Please be prepared to submit written comments. Written comments can be submitted by email to BLM_AK_Communications@blm.gov.

Before including your address, phone number, email address, or other personal identifying information in your comment, you should be aware that your entire comment—including your personal identifying information—may be made publicly available at any time. While you can ask us in your comment to withhold your personal identifying information from public review, we cannot guarantee that we will be able to do so.

Authority: 42 U.S.C. 15906; 43 CFR 1784.4-2.

Karen E. Mouritsen,
Acting State Director, Alaska.

[FR Doc. 2017-23532 Filed 10-27-17; 8:45 am]

BILLING CODE 4310-JA-P